GENERAL SERVICES ADMINISTRATION

[Notice-PBS-2022-01; Docket No. 2022-0002; Sequence No. 09]

Federal Management Regulation; Designation of Federal Building

AGENCY: Public Buildings Service (PBS), General Services Administration (GSA).

ACTION: Notice of a bulletin.

SUMMARY: The attached bulletin announces the redesignation of a Federal building.

DATES: This bulletin expires November 16, 2022. The building designation remains in effect until canceled or superseded by another bulletin.

FOR FURTHER INFORMATION CONTACT: General Services Administration, Public Buildings Service (PBS), Office of Portfolio Management, Attn: Chandra Kelley, 77 Forsyth Street SW, Atlanta, GA 30303, at 404-562-2763, or by email at chandra.kelley@gsa.gov.

SUPPLEMENTARY INFORMATION: This bulletin announces the redesignation of a Federal building. Public Law 117-74, dated December 21, 2021, redesignated the Federal building located at 167 North Main Street in Memphis, TN, as the “Odell Horton Federal Building.”

Katy Kale,
Deputy Administrator of General Services.

[FR Doc. 2022-10478 Filed 5-16-22; 8:45 am]

BILLING CODE 6820-Y1-P